DEPARTMENT OF HEALTH AND HUMAN SERVICES

Health Resources and Services Administration

Advisory Committee; Notice of Meeting

In accordance with section 10(a)(2) of the Federal Advisory Committee Act, (Public Law 92-463), announcement is made of the following National Advisory Committee scheduled to meet during the month of February 2002.

Name: Advisory Committee on Interdisciplinary, Community-Based Linkages.

Date and Time: February 4, 2002; 8 a.m.-5 p.m.; February 5, 2002; 8 a.m.-5 p.m.; February 6, 2002; 8 a.m.-1 p.m.

Place: The Doubletree Hotel, Rockville, Maryland, 1750 Rockville Pike, Rockville, Maryland 20852.

The meeting is open to the public.

Agenda items will include, but not be limited to: Welcome; introduction of the Division of State, Community and Public Health Staff; members' reactions to the inaugural report submitted to the Secretary of Health and Human Services, November 2001; Federal staff reactions to report; and plenary discussion of Committee goals for 2002-2003; ongoing guidance provided on an ad hoc basis by Federal program staff from the Division of State, Community and Public Health; general discussion among Committee members of its charge under Section 756 of the Public Health Service Act, to include discussion of Committee reports; scheduling of the next Committee meeting, which shall include but not be limited to: General discussion of topics to be addressed during the next Committee meeting.

Public comment will be permitted before lunch and at the end of the Committee meeting on February 4, 2002. Oral presentations will be limited to 5 minutes per public speaker. Persons interested in providing an oral presentation should submit a written request, with a copy of their presentation to: Mrs. Tempie Desai, Principal Staff Liaison, Division of State, Community and Public Health, Bureau of Health Professions, Health Resources and Services Administration, Room 9-105, 5600 Fishers Lane, Rockville, Maryland 20857, Telephone (301) 443-0132.

Requests should contain the name, address, telephone number, and any business or professional affiliation of the person desiring to make an oral presentation. Groups having similar interests are requested to combine their comments and present them through a single representative. The Division of State, Community and Public Health will notify each presenter by mail or telephone of their assigned presentation time.

Persons who do not file an advance request for a presentation, but wish to make an oral statement may register to do so at the Doubletree Hotel, Rockville, Maryland, on February 4, 2002. These persons will be allocated time as the Committee meeting agenda permits.

Anyone requiring information regarding the Committee should contact Mrs. Tempie Desai, Division of State, Community and Public Health, Bureau of Health Professions, Health Resources and Services Administration, Room 9-105, 5600 Fishers Lane, Rockville, Maryland 20857, Telephone (301) 443-0132.

Proposed agenda items are subject to change as priorities dictate.

Dated: January 25, 2002.
Jane M. Harrison,
Director, Division of Policy Review and Coordination.

[FR Doc. 02-2269 Filed 1-25-02; 4:37 pm]

BILLING CODE 4165-15-P